DEPARTMENT OF TRANSPORTATION

Federal Aviation Administration

14 CFR Part 95

[Docket No. 30242; Amdt. No. 428]

IFR Altitudes; Miscellaneous Amendments

AGENCY: Federal Aviation Administration (FAA), DOT.

ACTION: Final rule.

SUMMARY: This amendment adopts miscellaneous amendments to that required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATE: 0910 UTC, May 17, 2001.

FOR FURTHER INFORMATION CONTACT: Donald P. Pate, Flight Procedure Standards Branch (AMCAFS-420), Flight Technologies and Programs Division, flight Standards Service, Federal Aviation Administration, Mike Monroney Aeronautical Center, 6500 South MacArthur Blvd. Oklahoma City, OK. 73169 (Mail Address: P.O. box 25082 Oklahoma City, OK. 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid converge that is adequate for safe flight operations and free of frequency interference. The reasons and circumstances that create the need for this amendment involves matters of flight safety and operational efficiency in the National airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, D.C. on April 3, 2001.
L. Nicholas Lacey,
Director, Flight Standards Service.

Adoption of the Amendment

Accordingly, pursuant to the authority delegated to me by the Administrator, part 95 of the Federal Aviation Regulations (14 CFR part 95) is amended as follows effective at 0901 UTC.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes and Changeover Points
[Amendment 428; Effective Date, May 17, 2001]
From | To | MEA
§ 95.101—Direct Routes—U.S. Bahamas Routes—063V is Amended to Read in Part
Freeport, BS VOR/DME | Cegur, BS FIX | *2,000
*1,400-MOCA
Cegur, BS FIX | Burbo, BS FIX | *2,000
*1,300-MOCA
Burbo, BS FIX | Bayru, BS FIX | **10,000
**1,300-MOCA
Bayru, BS FIX | Hankx, BS FIX | *10,000
*1,300-MOCA
Bahamas Routes—069V is Amended to Read in Part
Benzi, BS FIX | Jamax, BS FIX | *3,000
*1,200-MOCA
Jamax, BS FIX | Freeport, BS VOR/DME | *2,000
*1,400-MOCA
Bahamas Routes—071V is Added to Read
Freeport, BS VOR/DME | Wopop, BS FIX | *2,000
*1,400-MOCA
Wopop, BS FIX | Wlker, BS FIX | *3,000
*1,200-MOCA
§ 95.6001 Victor Routes—U.S.
§ 95.6037 VOR Federal Airway 37 is Amended to Read in Part
Columbia, SC VORTAC | *BLOTS, SC FIX | 2,300
*4,000-MRA
Blots, SC FIX | *Great, SC FIX | 2,300
*4,000-MRA
Great, SC FIX | Riche, SC FIX | 2,300
Riche, SC FIX | Charlotte, NC VOR/DME | 2,500
§ 95.6053 VOR Federal Airway 53 is Amended to Read in Part
Columbia, SC VORTAC | *Wider, SC FIX | 2,200
*4,000-MRA
Wider, SC FIX | *Bubba, SC FIX | 2,300
*4,000-MRA
Bubba, SC FIX | Wills, SC FIX | 2,200
§ 95.6054 VOR Federal Airway 54 is Amended to Read in Part
Dilla, GA FIX | *Whety, SC FIX | **7,000
**6,200-MOCA
*8,000-MRA
Whety, SC FIX | *Sunet, SC FIX | **7,000
*8,000-MRA
6,200-MOCA
Sunet, SC FIX | Cleva, SC FIX | 6,000
*5,300-MOCA
§ 95.6066 VOR Federal Airway 66 is Amended to Read in Part
Bard, AZ VORTAC | *Mohak, AZ FIX | 4,000
W BND |  | 6,000
E BND
*6,000-MCA Mohak, AZ FIX E BND
Mohak, AZ FIX | *Judth, AZ FIX | **6,000
**4,000-MOCA
*6,000-MCA Judth, AZ FIX W BND
Judth, AZ FIX | Gila Bend, AZ VORTAC
W BND |  | 6,000
E BND |  | 4,000
§ 95.6068 VOR Federal Airway 68 is Amended to Read in Part
San Antonio, TX VORTAC | *Braun, TX FIX | 3,100
*5,500-MRA
Braun, TX FIX | Marcs, TX FIX | 3,100
Marcs, TX FIX | Crays, TX FIX | *2,900
*2,000-MOCA
Crays, TX FIX | Industry, TX VORTAC | 2,500
Industry, TX VORTAC | Sealy, TX FIX | 2,100
Sealy, TX FIX | Hobby, TX VOR/DME | 2,000
§ 95.6076 VOR Federal Airway 76 is Amended to Read in Part
Industry, TX VORTAC | Sealy, TX FIX | 2,100
Sealy, TX FIX | Hobby, TX VOR/DME | 2,000
§ 95.6105 VOR Federal Airway 105 is Amended to Read in Part
Lucky, NV FIX | *Hiden, CA FIX | 14,000
*14,000-MRA
Hiden, CA FIX | Beatty, NV VORTAC
NW BND |  | *11,000
SE BND |  | *12,000
*8,400-MOCA
Beatty, NV VORTAC | Coaldale, NV VORTAC | *11,000
*9,600-MOCA
§ 95.6135 VOR Federal Airway 135 is Amended to Read in Part
Goffs, CA VORTAC | *Whigg, CA FIX | **12,000
*12,000-MRA
**9,500-MOCA
Whigg, CA FIX | Clarr, CA FIX | *12,000
*9,900-MOCA
Clarr, CA FIX | *Hiden, CA FIX | **12,000
*14,000-MRA
**8,500-MOCA
Hiden, CA FIX | Beatty, NV VORTAC
NW BND |  | *11,000
SE BND |  | *12,000
*8,400-MOCA
§ 95.6155 VOR Federal Airway 155 is Amended to Read in Part
Colliers, SC VORTAC | *Wider, SC FIX | 2,500
*4,000-MRA
Wider, SC FIX | *Blots, SC FIX | 2,500
§ 95.6172 VOR Federal Airway 172 is Amended to Read in Part
Omaha, NE VORTAC | Wunot, IA FIX | 3,800
Wunot, IA FIX | *Linde, IA FIX | **5,500
*5,500-MRA
**3,800-MOCA
§ 95.6181 VOR Federal Airway 181 is Amended to Read in Part
Sioux Falls, SD VORTAC | Obitt, SD FIX | *4,000
*3,400-MOCA
§ 95.6194 VOR Federal Airway 194 is Amended to Read in Part
Sealy, TX FIX | Hobby, TX VOR/DME | 2,000
§ 95.6222 VOR Federal Airway 222 is Amended to Read in Part
Marcs, TX FIX | Crays, TX FIX | *2,900
*2,000-MOCA
Crays, TX FIX | Industry, TX VORTAC | 2,500
Industry, TX VORTAC | Sealy, TX FIX | 2,100
Sealy, TX FIX | Humble, TX VORTAC | 2,000
Foothills, GA VORTAC | *Sunet, SC FIX | 6,100
*8,000-MRA
§ 95.6306 VOR Federal Airway 306 is Amended to Read in Part
Cleep, TX FIX | Daisetta, TX VORTAC | 3,000
§ 95.6444 VOR Federal Airway 444 is Amended to Read in Part
Solde, ID FIX | *Derso, ID FIX | **17,000
*12,500-MCA Derso FIX W BND
**9,200-MOCA
Derso, ID FIX | Arows, ID FIX | *12,500
*9,700-MOCA
§ 95.6500 VOR Federal Airway 500 is Amended to Read in Part
Arows, ID FIX | Derso, ID FIX | *12,500
*9,700-MOCA
Derso, ID FIX | Solde, ID FIX | **17,000
*12,500-MCA SOLDE FIX E BND
**9,200-MOCA
Reaps, ID FIX | Betre, ID FIX | *9,500
*7,000-MOCA
§ 95.6548 VOR Federal Airway 548 is Amended to Read in Part
Hobby, TX VOR/DME | Sealy, TX FIX | 2,000

From | To | MEA | MAA
§ 95.7001 Jet Routes
§ 95.7146 Jet Route No. 146 is Amended to Read in Part
Las Vegas, NV VORTAC | Nootn, AZ FIX | 18000 | 45000
Nootn, AZ FIX | Dove Creek, CO VORTAC | #25000 | 45000
#MEA is established with a gap in navigation signal coverage.

From | To | Changeover points: Distance | Changeover points: From
§ 95.8005 Jet Routes Changeover Points is Amended to Modify Changeover Point
Martinsburg, WV VORTAC | Lancaster, PA VORTAC | 24 | Martinsburg

[FR Doc. 01-8716 Filed 4-9-01; 8:45 am]

BILLING CODE 4910-13-M